DEPARTMENT OF JUSTICE

Drug Enforcement Administration

[Docket No. DEA-954]

Bulk Manufacturer of Controlled Substances Application: Sigma Aldrich Research Biochemicals, Inc.

AGENCY: Drug Enforcement Administration, Justice.

ACTION: Notice of application.

SUMMARY: Sigma Aldrich Research Biochemicals, Inc. has applied to be registered as a bulk manufacturer of basic class(es) of controlled substance(s). Refer to Supplemental Information listed below for further drug information.

DATES: Registered bulk manufacturers of the affected basic class(es), and applicants therefore, may file written comments on or objections to the issuance of the proposed registration on or before August 1, 2022. Such persons may also file a written request for a hearing on the application on or before August 1, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 29, 2021, Sigma Aldrich Research Biochemicals, Inc., 400-600 Summit Drive, Burlington, Massachusetts 01803, applied to be registered as a bulk manufacturer of the following basic classes of controlled substances:

Controlled substance | Drug code | Schedule
Cathinone | 1235 | I
4-Methyl-N-Methylcathinone | 1248 | I
Methaqualone | 2565 | I
JWH-018 & AM678 | 7118 | I
1-(5-Fluoropentyl)-3-(1-Naphthoyl)Indole | 7201 | I
Lysergic Acid Diethylamide | 7315 | I
Tetrahydrocannabinols | 7370 | I
Mescaline | 7381 | I
2,5-Dimethoxyamphetamine | 7396 | I
3,4-Methylenedioxymethamphetamine | 7405 | I
Alpha-Methyltryptamine | 7432 | I
Dimethyltryptamine | 7435 | I
5-Methoxy-N,N-Diisopropyltryptamine | 7439 | I
1-Benzylpiperazine | 7493 | I
2-(2,5-Dimethoxyphenyl)Ethanamine | 7517 | I
3,4-Methylenedioxypyrovalerone | 7535 | I
3,4-Methylenedioxy-N-Methylcathinone | 7540 | I
Heroin | 9200 | I
Normorphine | 9313 | I
Norlevorphanol | 9634 | I
Acetyl Fentanyl | 9821 | I
Amphetamine | 1100 | II
Methylphenidate | 1724 | II
Nabilone | 7379 | II
Phencyclidine | 7471 | II
Cocaine | 9041 | II
Codeine | 9050 | II
Ecgonine | 9180 | II
Levorphanol | 9220 | II
Meperidine | 9230 | II
Methadone | 9250 | II
Morphine | 9300 | II
Thebaine | 9333 | II
Levo-Alphacetylmethadol (LAAM) | 9648 | II
Noroxymorphone | 9668 | II
Remifentanil | 9739 | II
Sufentanil | 9740 | II
Carfentanil | 9743 | II
Fentanyl | 9801 | II

The company plans to manufacture reference standards.

Kristi O'Malley,
Assistant Administrator.

[FR Doc. 2022-11823 Filed 6-1-22; 8:45 am]

BILLING CODE P